DEPARTMENT OF JUSTICE

Notice of Lodging of Proposed Consent Decree Under the Comprehensive Environmental Response, Compensation, and Liability Act

On September 30, 2024, the Department of Justice lodged a proposed Consent Decree with the United States District Court for the District of New Jersey in the lawsuit entitled United States v. EMR (USA Holdings) Inc.; Camden Iron & Metal, Inc.; SPC Corporation; Atlas Traders, LLC; Rhino Recycling, Inc.; Delco Metals, Inc.; Tioga Real Estate, LLC; United Compressed Steel Company; Sims Group USA Holdings Corporation; Simsmetal East LLC f/k/a Hugo Neu Schnitzer East; Metal Management Northeast, Inc; and Mercer Group International of New Jersey, Inc., Civil Action No. 1:24-CV-09545-KMW-MJS.

The proposed Consent Decree resolves the United States' claims on behalf of the Environmental Protection Agency (“EPA”) under section 107(a) of the Comprehensive Environmental Response, Compensation, and Liability Act of 1980, as amended (“CERCLA”), regarding the Shamrock Enterprises Superfund Site (“Site”), located at 281 Clearfield Avenue, Franklinville, Gloucester County, New Jersey, comprised of 4 lots collectively approximately 52 acres in size and identified as Block 1802, Lots 30, 31, 32, 33 on the Tax Map of Franklin Township, New Jersey. EPA in 2018 removed approximately 3000 compressed gas cylinders containing hazardous substances such as acetylene, ethylene oxide, hydrogen chloride, hydrogen, sulfide, and silane accumulated at the Site. The United States incurred at least $1,516,119 in response costs at the Site. The settling defendants are generators who sent cylinders containing hazardous substances to the Site and will collectively pay $900,000.00 to resolve their liability.

The publication of this notice opens a period for public comment on the proposed Consent Decree. Comments should be addressed to the Assistant Attorney General, Environment and Natural Resources Division, and should refer to United States v. EMR (USA Holdings) Inc., et al., D.J. Ref. No. Number 90-11-3-12494. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Eric D. Albert,
Assistant Section Chief, Environmental Enforcement Section, Environment and Natural Resources Division.

[FR Doc. 2024-23324 Filed 10-8-24; 8:45 am]

BILLING CODE 4410-15-P